DEPARTMENT OF JUSTICE

Notice of Lodging of Proposed Partial Consent Decree Under the Clean Water Act

On January 30, 2024, the Department of Justice lodged a proposed Partial Consent Decree with the United States District Court for the District of Guam in the lawsuit entitled United States v. Guam Waterworks Authority and the Government of Guam, Civil Action No. 04-00004.

The United States filed a lawsuit under the Clean Water Act, alleging that Guam Waterworks Authority (“GWA”) violated the Act and the terms and conditions of applicable permits by discharging excess pollutants from and failing to maintain its wastewater system. The complaint seeks injunctive relief and civil penalties. The partial settlement requires GWA to implement an estimated $400 million in wastewater collection system improvements and to conduct a feasibility study for improvements to the Hagåtña wastewater treatment plant. The partial Consent Decree does not resolve the United States' claims for civil penalties or further injunctive relief related to GWA's wastewater collection system or treatment technology upgrades to the Hagåtña wastewater treatment plant. The Government of Guam is also a party to the lawsuit and the settlement.

The publication of this notice opens a period for public comment on the partial Consent Decree. Comments should be addressed to the Assistant Attorney General, Environment and Natural Resources Division, and should refer to United States v. Guam Waterworks Authority and the Government of Guam, D.J. Ref. No. 90-5-1-1-11696. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the partial Consent Decree may be examined and downloaded at this Justice Department website: http://www.justice.gov/enrd/consent-decrees. We will provide a paper copy of the partial Consent Decree upon written request and payment of reproduction costs. Please mail your request and payment to: Consent Decree Library, U.S. DOJ—ENRD, P.O. Box 7611, Washington, DC 20044-7611.

Please enclose a check or money order for $19.75 (25 cents per page reproduction cost) payable to the United States Treasury. For a paper copy without the exhibits and signature pages, the cost is $17.50.

Lori Jonas,
Assistant Section Chief, Environmental Enforcement Section, Environment and Natural Resources Division.

[FR Doc. 2024-02338 Filed 2-5-24; 8:45 am]

BILLING CODE 4410-15-P